GENERAL SERVICES ADMINISTRATION

[Notice-MG-2024-02; Docket No. 2024-0002; Sequence 34]

Office of Federal High-Performance Green Buildings; Notification of Public Comment Period for GSA's Green Building Certification System Review

AGENCY: Office of Government-wide Policy (OGP); General Services Administration, (GSA).

ACTION: Notification of public comment period.

SUMMARY: GSA is seeking comments on its draft recommendations to the Secretary of Energy on those green building certification systems that will most likely “encourage a comprehensive and environmentally sound approach” to the certification of high-performance green Federal buildings, per requirements of the Energy Independence and Security Act of 2007. These draft recommendations are based on the information contained in GSA's 2024 Green Building Certification System Review Findings Report that analyzed green building certification systems and their alignment with Federal green building performance requirements. GSA will be using stakeholder input to potentially augment its final recommendations to the Secretary of Energy. The information being asked for in this notice is not for the purpose of a proposed GSA rulemaking or a GSA regulation.

DATES: Interested parties should submit written comments by one of the methods shown below on or before August 29, 2024 to be considered in the formation of GSA's final recommendations to the Secretary of Energy.

ADDRESSES: Submit comments in response to Notice-MG-2024-02 by any of the following methods:

• Regulations.gov: http://www.regulations.gov. Submit comments via the Federal eRulemaking portal by searching for “Notice-MG-2024-02”. Select the link “Submit a Comment” that corresponds with “Notice-MG-2024-02” Follow the instructions provided at the “Submit a Comment” screen. Please include your name, company name (if any), and “Notice-MG-2024-02 on your attached document.

• Email: highperformancebuildings@gsa.gov.

Instructions: Please submit comments only and cite Notice-MG-2024-02 in all correspondence related to this case. Visit https://www.gsa.gov/gbcertificationreview for more information.

FOR FURTHER INFORMATION CONTACT: Mr. Bryan Steverson, Office of Federal High-Performance Green Buildings, telephone 202-501-6115, or via email, at bryan.steverson@gsa.gov.

SUPPLEMENTARY INFORMATION:

Background

Section 436(h) of the Energy Independence and Security Act of 2007 (EISA) requires GSA to evaluate green building certification systems and provide a recommendation to the Secretary of Energy who, in consultation with the Department of Defense and GSA, formally identifies system(s) to be used across the Federal Government. GSA's Office of Federal High-Performance Green Buildings has just completed and published its 2024 Green Building Certification System Review Findings Report (Findings Report), which can be accessed at https://www.gsa.gov/gbcertificationreview. This report summarizes GSA's formal review of six green building certification systems (BOMA BEST, BREEAM, Green Globes, LEED, Living Building Challenge, and Passive House US, Inc). These systems were assessed against a set of review criteria contained in statute that evaluate how they were developed and how the systems align with current Federal green building performance requirements.

Request for Public Comment: GSA is seeking public comment on its draft recommendations to the Secretary of Energy on those green building certification systems that “will most likely encourage a comprehensive and environmentally sound approach” to the certification of high-performance green Federal buildings. GSA's draft recommendations can be found on its website: https://www.gsa.gov/gbcertificationreview.

Draft Recommendations

Based on the information contained in its Findings Report, GSA recommends that agencies consider using LEED or Green Globes for new construction or major renovation projects. Both of these systems meet the basic requirements established under DOE Rule: “Green Building Certification Systems Requirement for New Federal Buildings and Major Renovations of Federal Buildings” by:

• Allowing assessors and auditors to independently verify the criteria and measurement metrics of the system

• Being developed by a certification organization that provides an opportunity for public comment on the system and provides an opportunity for development and revision of the system through a consensus-based process

• Being nationally recognized within the building industry

• Being subject to periodic evaluation and assessment of the environmental and energy benefits that result under the certification system, and

• Including a verification system for post-occupancy assessment of the rated buildings to demonstrate continued energy and water savings at least every four years after initial occupancy

For existing buildings, GSA recommends that agencies consider the use of BOMA Best, BREEAM In-Use, Green Globes, LEED, Living Building Challenge, Living Building Challenge CORE, or PHIUS CORE Revive. Each of these systems contains requirements and options that align to varying degrees with green building performance criteria and provides a sound approach to certification of high-performance green Federal buildings. It is important for agencies to ensure that the options selected within a certification system are those that align with Federal criteria in order to realize the benefits of using such a system. GSA recommends agencies use the certification system that best meets their mission, building type, and portfolio needs and certify to a level that promotes the high performance sustainable building goals referenced in Executive Orders 14008 and 14057.

It should be noted that on October 14, 2014, the U.S. DOE published its final rule that formally identifies criteria that green building certification systems must meet in order to be used by the Federal Government. This GSA request for public comment is not for the purposes of that final rulemaking, but to inform GSA on its related responsibilities to study green building certification systems and recommend ones to the DOE that may fit within the framework of the final rule. DOE's final rule can be found at https://www.regulations.gov/document/DOE-EERE-OT-2010-0007-0084.

Kinga Hydras,
Acting Director, Office of Federal High-Performance Green Buildings, General Services Administration.

[FR Doc. 2024-16664 Filed 7-29-24; 8:45 am]

BILLING CODE 6820-14-P